DEPARTMENT OF HOUSING AND URBAN DEVELOPMENT

[Docket No. FR-4950-N-04B]

Notice of HUD's Fiscal Year (FY) 2005 Notice of Funding Availability (NOFA) Policy Requirements and General Section to SuperNOFA for HUD's Discretionary Grant Programs (SuperNOFA); Youthbuild Program, Notice of Extension of Application Submission Date for Areas in South Florida Affected by Hurricane Katrina

AGENCY: Office of the Assistant Secretary for Community Planning and Development, HUD.

ACTION: Notice of extension of application submission date for applicants submitting applications from areas affected by Hurricane Katrina in south Florida.

SUMMARY: This notice announces the extension of submission deadline dates for one program announced in the Fiscal Year 2005 SuperNOFA, the Youthbuild NOFA, for those applicants located within four counties of south Florida that were significantly affected by the initial impact of Hurricane Katrina, including the counties of Broward, Collier, Miami-Dade, and Monroe. The submission deadline for this funding opportunity was August 25, 2005, the same day that Hurricane Katrina affected south Florida. For those applicants located in one of these four counties, the revised submission date is October 17, 2005. For applicants not in one of these four counties in south Florida, the submission deadline remains unchanged.

DATES: For applicants located in the four affected counties, the submission date is October 17, 2005.

FOR FURTHER INFORMATION CONTACT: Mark A. Horwath, Director, Grants Management, Department of Housing and Urban Development, 451 Seventh Street, SW., Washington, DC 20410-7000; telephone (202) 708-2035 (this is not a toll-free number). Hearing-or speech-impaired persons may access these telephone numbers by calling the toll-free Federal Information Relay Service on (800) 877-8339.

SUPPLEMENTARY INFORMATION: On March 21, 2005 (70 FR 13575), HUD published its FY2005 SuperNOFA, which announced the availability of approximately $2.26 billion in HUD assistance. In a Federal Register notice published on July 26, 2005 (70 FR 43168), HUD reopened the NOFA competition for the Youthbuild program and extended the deadline to August 25, 2005, the day that Hurricane Katrina affected south Florida.

Due to Hurricane Katrina, which caused widespread power outages and flooding in south Florida, the Department is extending the deadline for the Youthbuild NOFA to October 17, 2005. This extension affects only applicants located in one of the four counties in south Florida that were significantly affected including Broward, Collier, Miami-Dade, and Monroe. HUD will accept applications to the Youthbuild program NOFA from applicants in the four affected counties in south Florida, either through Grants.gov, or in hard copy (paper) submission consistent with the instructions in the March 21, 2005, SuperNOFA General Section, except that these affected applicants are not required to obtain a waiver from the electronic submission requirement and HUD recommends applicants use an overnight delivery method to ensure timely receipt of paper applications. Hard copy submissions should be sent to the appropriate address listed as follows: Youthbuild Program Department of Housing and Urban Development, Attn: Mark A. Horwath, 451 Seventh Street, SW., Room 7149, Washington, DC 20410-5000.

(Applicants to the Youthbuild Program should submit an original and two copies of the application.)

Dated: October 4, 2005.
Pamela H. Patenaude,
Assistant Secretary for Community Planning and Development

[FR Doc. E5-5587 Filed 10-11-05; 8:45 am]

BILLING CODE 4210-27-P